DEPARTMENT OF HEALTH AND HUMAN SERVICES

National Institutes of Health

Office of the Director, National Institutes of Health; Notice of Meeting

Pursuant to section 10(a) of the Federal Advisory Committee Act, as amended (5 U.S.C. App.), notice is hereby given of a meeting of the Advisory Committee to the Director, NIH.

The meeting will be open to the public. Individuals who plan to listen to this teleconference should notify the Contact Person listed below in advance of the meeting.

Name of Committee: Advisory Committee to the Director, NIH.

Date: January 22, 2010.

Time: 10:45 a.m. to 11:45 a.m., Eastern Standard Time.

Place: National Institutes of Health, 1 Center Drive, Bethesda, MD 20892.

Agenda: ACD Working Group Report on Stem Cells (Telephone Conference Call).

Contact Person: Penny Wung Burgoon, PhD, National Institutes of Health, 1 Center Drive, Building 1, Room 109, Bethesda, MD 20892, 301-451-5870, burgoonp@od.nih.gov.

Any interested person may file written comments with the committee by forwarding the statement to the Contact Person listed on this notice. The statement should include the name, address, telephone number and, when applicable, the business or professional affiliation of the interested person.

Information is also available on the Office of the Director's home page: http://www.nih.gov/about/director/acd.htm, where an agenda and any additional information for the meeting will be posted when available.

Dated: December 29, 2009.
Anna Snouffer,
Deputy Director, Office of Federal Advisory Committee Policy.

[FR Doc. E9-31233 Filed 1-4-10; 8:45 am]

BILLING CODE 4140-01-P